DEPARTMENT OF COMMERCE

U.S. Census Bureau

Proposed Information Collection; Comment Request; 2017 National Survey of Children's Health

AGENCY: U.S. Census Bureau, Commerce.

ACTION: Notice.

SUMMARY: The Department of Commerce, as part of its continuing effort to reduce paperwork and respondent burden, invites the general public and other Federal agencies to take this opportunity to comment on the proposed 2017 National Survey of Children's Health, as required by the Paperwork Reduction Act of 1995.

DATES: To ensure consideration, written comments must be submitted on or before February 27, 2017.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Jason Fields, U.S. Census Bureau, ADDP, HQ-7H153, 4600 Silver Hill Road, Washington, DC 20233-0001 (301-763-2465 or via the Internet at Jason.M.Fields@census.gov).

SUPPLEMENTARY INFORMATION

I. Abstract

Sponsored by the U.S. Department of Health and Human Services' (HHS') Health Resources Services Administration's Maternal and Child Health Bureau (HRSA MCHB), the National Survey of Children's Health (NSCH) is designed to produce data on the physical and emotional health of American children under 18 years of age. The NSCH collects information on factors related to the well-being of children, including access to health care, in-home medical care, family interactions, parental health, school and after-school experiences, and neighborhood characteristics. In 2011-2012, the NSCH also collected information to assess parents' awareness of, experience with, and interest in enrolling in Medicaid and the State Children's Health Insurance Program (CHIP).

The 2017 NSCH project includes plans to test incentive efficacy (the relative benefit for reducing survey non-response by providing $0 or a $2 incentive as a token of appreciation), contact materials, and modifications to data collection strategies based on modeled information about Internet access. Preliminary results from the 2016 NSCH production cycle (administered from June 2016-February 2017) were used to inform the decisions made regarding this second year 2017 NSCH production survey project. First, based on the results from the 2016 NSCH and available funds, a $2 incentive will be administered with the initial mailing. For initial incentives, the evaluation of results from the 2016 NSCH showed that there was a statistically significant difference in the response rates when respondents were provided an incentive compared to those who were part of the control group that did not receive an incentive. The cost of incentives is balanced against the reduction in follow-up effort and cost required to collect the required data. There was a slightly larger increase in response for households mailed a $5 incentive compared to those mailed a $2 incentive with their initial survey invite, but due to budget limitations that amount is not being considered for the 2017 NSCH. A small group (10% or less) receiving no incentive will be included to monitor the effectiveness of the incentive in the initial mailing. Second, for respondents who answer a paper screener interview and are mailed their first paper topical questionnaire, incentives will be tested for their ability to reduce bias and gain cooperation for this critical second stage of paper questionnaire data collection.

In addition to testing incentives and developing materials, the 2017 NSCH will continue to serve as a platform to evaluate different non-response follow-up mailing strategies based on a household's likelihood to respond over the Internet. For the 2016 NSCH, every household within the sample was assigned an American Community Survey (ACS) tract level Internet response likelihood flag (from 2013-2014 ACS survey years) of either medium/high (approximately 70% of the sample) or low (approximately 30% of the sample). The results from the 2015 NSCH pretest showed that Internet was the mode of choice (>70% response rate); therefore, the 2016 NSCH planned solely for a web push mode of data collection. The web push mode included a combined screener and topical web instrument invite first, followed by a paper screener questionnaire in either their second or third non-response follow-up mailing. Households assigned to the low Internet likelihood group received their first paper screener questionnaire with their second non-response follow-up mailing and households assigned to the medium/high Internet likelihood group received their first paper screener invite with their third non-response follow-up mailing. For those households with children that responded to the screener questionnaire by paper, a follow-up topical paper questionnaire was mailed to that address.

In the 2016 NSCH, we observed response rates which were lower than the pretest and lower than our conservative estimates. While sample composition is still being evaluated, it is much closer to the expected nationally representative sample than the pretest was. We were able to learn considerably more about the production use of flags identifying the likelihood of responding by Internet and their usability to target mailed paper non-response follow-up. Since the 2016 NSCH sample was more representative of the general U.S. population than the prior year's pretest, we learned that response rates were actually lower across all characteristics of the sample than originally anticipated. The indicator that we developed for differentiating households likely to respond by Internet versus paper was more successful at indicating the likelihood of overall survey response than the preference for Internet over paper (medium/high Internet group were more likely to respond in general than the low Internet group). Since there continues to be a significant potential for cost savings for web data collection over paper data collection, we are working to refine and retest an Internet response indicator for the 2017 NSCH based on the results from the 2016 data collection. The first mailing strategy is a web push. This treatment is structured to reduce cost and respondent burden, focused so that all households in this group will first be invited to complete the NSCH online, and only non-respondents or those who call in to request a hard copy will be mailed a paper questionnaire. The second mailing strategy is mixed-mode, where web invitations and paper questionnaires are mailed with their initial survey invitation. The web push data collection strategy will be applied to approximately 70% of the sample using the medium/high Internet group flag that was improved based on the results of the 2016 NSCH and updated input data, while the remaining 30% low Internet group sample cases will be included in the mixed-mode data collection plan. Based on final results of the 2016 NSCH and the finalized sampling plan for the 2017 NSCH, we expect to differentiate this mix of web push and mixed-mode mailings by sampling strata and the expected presence of children.

The second new data collection strategy being tested is a pressure-sealed reminder postcard scheduled to be mailed approximately one week after the initial survey invite mailing. This strategy is being implemented because the time gap used during the 2016 NSCH proved too long, and a significant dip in response flow was observed between mailings. The ability to send reminders enclosed with pressure-seal system allow them to contain username and password login information for the Centurion web instrument as well as specific information about the survey. The postcard will also allow for a paragraph in Spanish that will direct the respondent to the Spanish web survey or the Telephone Questionnaire Assistance (TQA) line for Spanish assistance.

Third, we will test for response improvements using different envelopes to deliver the survey materials, and the impact of adding supplemental fact sheets with important statistics from prior NSCH administrations. The initial mailing and first follow-up mailing will utilize the standard BC-1328 or BC-1776 flat mail envelopes both of which are white. During the initial and first follow-up mailing, inserts with important NSCH facts will be tested. During the second follow-up mailing when all respondents are receiving the BC-1776 flat mail envelopes containing a paper questionnaire, we will test if there is a difference in color preference and wording on the outside of the envelope.

Finally, for respondents who experience technical problems with the web instrument, have questions about the survey, or need other forms of assistance, the 2017 NSCH will continue to have a TQA line available similar to what was used for 2016 NSCH. TQA staff will not only be able to answer respondent questions and concerns, but also they will have the ability to collect survey responses over the phone if the respondent calls in and would like to have interviewer assistance in completing the interview.

In both Internet and paper collection modes, the survey design for the 2017 NSCH focuses on first collecting information about the children in the household and basic special health care needs, and then selecting a child from the household for follow-up to collect additional detailed topical information. If there is more than one eligible child in a household, a single child will be selected based on a sampling algorithm that considers the age and number of children as well as the presence of children with special health care needs. We estimate that of the original 190,000 selected households, our target screener return rate of 40.5 percent will yield approximately 76,950 responses to the screener. We then estimate that 60 percent of households from the first phase of the screener will be eligible to receive a topical questionnaire (households with children), and 70 percent of these households with children will return the topical questionnaire, resulting in approximately 32,319 completed topical interviews.¹ A household could be selected for one of three age-based topical surveys: 0 to 5 year old children, 6 to 11 year old children, or 12 to 17 year old children.

¹ The topical return rate was calculated using an average of the web topical return rate (95%) and the paper topical return rate (45%). The return rate includes fully complete topicals and sufficient partial topicals out of all completed screeners. The completion rate (31% for topicals) and response rate (40.4%) calculations on the following page additionally includes households in the denominator that are estimated to have eligible children, but who did not complete screeners.

Census staff have developed a plan to select a production sample of approximately 190,000 households (addresses) from a Master Address File (MAF) based sampling frame, with split panels to test mode of administration (i.e., high-web and low-web), and improvements to contact materials and strategies. Based on results of the 2016 incentive experiments and the availability of funds, we plan to use a $2 initial incentive with a control group receiving no incentive to monitor the effectiveness of the incentive expenditures. For respondents who answer the paper screener and are mailed a paper topical questionnaire, an additional incentive is expected for that mailing. The recommendation for the amount of this secondary incentive will be based on the results of the 2016 NSCH and available funding. From the 2016 NSCH, using AAPOR definitions of response, we can expect an overall screener completion rate for the 2017 NSCH to be about 45% percent and a 31% percent overall topical completion rate.² This is different from the total overall response rate, which is expected to be about 40.4%.³

² Screener Completion Rate is the proportion of screener-eligible households (i.e., occupied residences) that completed a screener. It is equal to (S+X)/(S+X+R+e(UR+UO)), where S is the count of completed screeners with children, X is completed screeners without children, R is screener refusals, and e(UR+UO) is the estimated count of screener eligible households among nonresponding addresses.

The Topical Completion Rate is the proportion of topical-eligible households (i.e., occupied residences with children present) that completed a topical questionnaire. It is equal to I/HCt, where I is the count of completed topicals and HCt is the estimated count of households with children in the sample or S+R+(S+R)/(S+X+R)*e(UR+UO).

³ Total Response Rate is the proportion of screener-eligible households that completed a screener or topical questionnaire. It is equal to (X+I+P)/(X+I+P+RS+eUS), where I is the count of completed topicals, P is the count of sufficient partial completed topicals, RS is screener refusals, and eUS is the estimated count of screener eligible households among nonresponding addresses.

The goal of the 2017 NSCH is to provide HRSA MCHB with the necessary data to support the production of national estimates yearly and state-based estimates with pooled samples on the health and well-being of children, their families, and their communities as well as estimates of the prevalence and impact of children with special health care needs.

II. Methods of Collection

Web Push

The production 2017 NSCH plan for the web push data collection design includes 70% of the 190,000 households receiving an initial invite with instructions on how to complete an English or Spanish-language screening questionnaire via the web. Those households who decide to complete the web-based survey will be taken through the screening questionnaire to determine if they screen into one of the three topical instruments. If a household lists at least one child who is 0 to 17 years old in the screener, they are directed into a topical questionnaire immediately after the last screener question. The web push production sample of 133,000 is broken out into two incentive groups the majority, 119,700 households, receiving a $2 incentive, and a small group, 13,300 households, receiving no incentive so that the effectiveness of the incentive can be monitored. No additional incentives are planned for subsequent screener follow-up reminders or screener paper questionnaire mailings. If a household in the web push treatment group decides to complete the paper screener, they may have a chance to receive an additional topical questionnaire incentive.

Mixed-Mode

The production 2017 NSCH plan for the mixed-mode data collection design includes approximately 30% of the 190,000 households receiving both an initial invite with a paper screening questionnaire and instructions on how to complete an English or Spanish language screening questionnaire via the web. Those households who decide to complete the web-based survey will follow the same screening and topical selection path as the web push. For households that choose to complete the paper screener questionnaire rather than completing the survey on the Internet, upon receipt of their completed paper screener at the Census processing center, households with eligible children will be mailed a paper topical questionnaire. The mixed-mode production sample of 57,000 will also receive incentives. Approximately 51,300 households will receive a $2 incentive with the initial mailing. As in the web push group, a small sample of approximately 5,700 households will receive no incentive so that the incentive effectiveness may be monitored. No additional incentives are planned for subsequent screener follow-up reminders or screener paper questionnaire mailings. If a household in the mixed-mode group chooses to complete the paper screener instead of completing by Internet, they may receive an additional topical questionnaire incentive.

Follow-Up Reminder Design

The NSCH historically was conducted in a partnership between the Health Services Resources Administration's Maternal and Child Health Bureau and the National Center for Health Statistics. As such, the survey information was sent to respondents under letterhead from the Department of Health and Human Services and the Centers for Disease Control and Prevention, with the Director of NCHS signing the letters to the respondent.

In the 2016 NSCH, we tested both standard contact branding utilized for Census Bureau surveys, which included Census Bureau letterhead and the Census Director's signature, and an alternative sent with HRSA MCHB branding. The first follow-up mailing, sent to non-responding households approximately three-weeks after their initial invitation to respond to the survey by web, was split into two groups. The first group was sent a reminder to participate with their web login and password under standard Census Bureau letterhead. The second group was sent their reminder under a HRSA MCHB letterhead. The differential success of these reminder treatments continues to be evaluated. However, initial results lean toward the majority of respondents preferring Census Bureau letterhead. These results have aided in our decision to go with Census Bureau branding on all mailed materials.

Non-Response Follow-Up for the High-Internet Group and Low-Internet Group

The high-Internet group will receive two additional web survey invitation letters requesting their participation in the survey prior to receiving their first paper screener questionnaire in the third follow-up mailing. The low-Internet group will receive both a web survey invitation letter along with a mailed paper screener questionnaire with each follow-up mailing. Once a household in the high-Internet group receives a paper screener questionnaire, they will then have the option to either complete the web-based survey or complete the mailed paper screener similar to the low-Internet group. If the household chooses to complete the mailed paper questionnaire, then they would then be considered part of the mailout/mailback paper-and-pencil interviewing treatment group and would receive a paper topical questionnaire if there is at least one eligible child who is 0 to 17 years old listed on the screener. Non-response follow-up for the topical questionnaire will include three more mailings, each including the paper topical questionnaire.

III. Data

OMB Control Number: 0607-0990.

Form Number(s): NSCH-P-S1 (English Screener), NSCH-P-T1 (English Topical for 0- to 5-year-old children), NSCH-P-T2 (English Topical for 6- to 11-year-old children), NSCH-P-T3 (English Topical for 12- to 17-year-old children), NSCH-PS-S1 (Spanish Screener), NSCH-PS-T1 (Spanish Topical for 0- to 5-year-old children), NSCH-PS-T2 (Spanish Topical for 6- to 11-year-old children), and NSCH-PS-T3 (Spanish Topical for 12- to 17-year-old children).

Type of Review: Regular submission.

Affected Public: Parents, researchers, policymakers, and family advocates.

Estimated Number of Respondents: 76,950 for the Screener and 32,319 for the Topical.

Estimated Time per Response: 5 minutes per screener response and 30 minutes per topical response.

Estimated Total Annual Burden Hours: 22,572 hours.

Estimated Total Annual Cost to Public: $585,067.

Respondent's Obligation: Voluntary.

Legal Authority: Census Authority: 13 U.S.C. Section 8(b).

HRSA MCHB Authority: Section 501(a)(2) of the Social Security Act (42 U.S.C. 701).

USDA Authority: The Healthy, Hunger-Free Kids Act of 2010, Public Law 111-296. In particular, 42 U.S.C. 1769d(a) authorizes USDA to conduct research on the causes and consequences of childhood hunger included in 1769d(a)(4)(B), the geographic dispersion of childhood hunger and food insecurity.

CDC/NCBDDD Authority: Public Health Service Act, Section 301, 42 U.S.C. 241.

EPA Authority: FIFRA: Section 20(a); Toxic Substances Control Act: Section 10; 15 U.S.C. 2609.

Confidentiality: The data collected under this agreement are confidential under 13 U.S.C. Section 9. All access to Title 13 data from this survey is restricted to those holding Census Bureau Special Sworn Status pursuant to 13 U.S.C. Section 23(c).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
PRA Departmental Lead, Office of the Chief Information Officer.

[FR Doc. 2016-31414 Filed 12-27-16; 8:45 am]

BILLING CODE 3510-07-P